DEPARTMENT OF COMMERCE

National Oceanic and Atmospheric Administration

RIN 0648-XC866

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or are in an overfished condition: Thorny skate is subject to overfishing and continues to be in an overfished condition; winter skate is subject to overfishing but is not in an overfished condition; Gulf of Mexico red snapper continues to be in an overfished condition; the Gulf of Mexico jacks complex is subject to overfishing; Gulf of Mexico hogfish is subject to overfishing; and South Atlantic blueline tilefish is subject to overfishing and in is an overfished condition. In addition, the Western and Central North Pacific (WCNP) stock of striped marlin, which is jointly managed by the Western Pacific Fisheries Management Council and the Pacific Fisheries Management Council, continues to be subject to overfishing and is now in an overfished condition.

NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Mark Nelson, (301) 427-8565.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing. Section 304(e)(2) further requires NMFS to publish these notices in the Federal Register.

NMFS has determined that thorny skate and winter skate, which are managed by the New England Fisheries Management Council (NEFMC), are subject to overfishing and thorny skate continues to be in an overfished condition based on a survey biomass index. NMFS has informed the NEFMC that they must address overfishing on these two stocks and continue to rebuild the thorny skate stock.

NMFS has informed the Gulf of Mexico Fishery Management Council (GMFMC) that the latest benchmark assessment for Gulf of Mexico (GOM) red snapper confirmed that the stock continues to be in an overfished condition and is not subject to overfishing. GOM red snapper has been in a rebuilding plan since 2001. NMFS has determined that adequate progress is being made to rebuild the stock to the target rebuilding level by 2032, the end of the rebuilding plan.

NMFS has also notified the GMFMC that an overfishing determination has been made for the GOM jacks complex and for GOM hogfish based on the catch to overfishing limit ratio. The GMFMC has implemented accountability measures for each of these stocks for the 2014 fishing year.

NMFS has determined that, based on the latest stock assessment, the South Atlantic blueline tilefish stock is subject to overfishing and is in an overfished condition. The prior status for overfishing and overfished was unknown. NMFS has notified the South Atlantic Fishery Management Council that they must address overfishing and rebuild the stock.

NMFS has determined that the Western and Central North Pacific (WCNP) stock of striped marlin is subject to overfishing and is in an overfished condition. This determination was based on an assessment conducted by the International Scientific Committee for Tuna and Tuna-like Species in the North Pacific Ocean (ISC), in conjunction with the Pacific Island Fisheries Science Center. NMFS has confirmed that section 304(i) of the Magnuson-Stevens Fishery Conservation and Management Act (Magnuson-Stevens Act) applies because (1) the overfishing and overfished condition of WCNP striped marlin is due largely to excessive international fishing pressure, and (2) the regional fishery management organizations have inadequate measures in place to correct the problem. NMFS has informed the Western Pacific Fishery Management Council and the Pacific Fishery Management Council of their obligations for international and domestic management under Magnuson-Stevens Act sections 304(i) and 304(i)(2) to address international and domestic impacts, respectively. The Councils must develop domestic regulations to address the relative impact of the domestic fishing fleet on the stock, and develop recommendations to the Secretary of State and Congress for international actions to end overfishing and rebuild WCNP striped marlin.

Dated: May 14, 2014.
Emily H. Menashes,
Acting Director, Office of Sustainable Fisheries, National Marine Fisheries Service.

[FR Doc. 2014-11551 Filed 5-16-14; 8:45 am]

BILLING CODE 3510-22-P